U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on February 20, 2020 on “China's Military Power Projection and U.S. National Interests.”

DATES: The hearing is scheduled for Thursday, February 20, 2020 at 9:00 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Brittney Washington, 444 North Capitol Street NW, Suite 602, Washington DC 20001; telephone: 202-624-1482, or via email at bwashington@uscc.gov. Reservations are not required to attend the hearing.

ADA Accessibility: For questions about the accessibility of the event or to request an accommodation, please contact Brittney Washington at 202-624-1482, or via email at bwashington@uscc.gov. Requests for an accommodation should be made as soon as possible, and at least five business days prior to the event.

SUPPLEMENTARY INFORMATION:

Background: This is the second public hearing the Commission will hold during its 2020 report cycle. This hearing will examine China's ability to project military power and influence beyond its shores, with an emphasis on the country's development of expeditionary capabilities. Officials from the Departments of State and Defense will provide testimony on how the Administration views China's power projection and how such capabilities further China's plans to reorder the Indo-Pacific and other key regions to its advantage. The first panel of experts will explore why and how China is developing expeditionary capabilities, with a focus on the Belt and Road Initiative (BRI) as a vehicle for testing and justifying these capabilities. The second panel will focus on the “nuts and bolts” of China's expeditionary capabilities, including the PLA's efforts to improve its logistics organization and expand its access to overseas bases. The third panel will examine how China's activities in South and Southeast Asia, Africa, and Latin America and the Caribbean further its development of expeditionary capabilities. The hearing will be co-chaired by Commissioner Jeffrey Fiedler and Commissioner Larry Wortzel. Any interested party may file a written statement by February 20, 2020 by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 28, 2020.
Daniel W. Peck,
Executive Director, U.S.-China Economic and Security Review Commission.

[FR Doc. 2020-01982 Filed 1-31-20; 8:45 am]

BILLING CODE 1137-00-P